DEPARTMENT OF TRANSPORTATION

Federal Aviation Administration

14 CFR Part 39

[Docket No. FAA-2011-0139; Directorate Identifier 2010-CE-057-AD; Amendment 39-16743; AD 2011-14-08]

RIN 2120-AA64

Airworthiness Directives; B/E Aerospace, Continuous Flow Passenger Oxygen Mask Assembly, Part Numbers 174006-( ), 174080-( ), 174085-( ), 174095-( ), 174097-( ), and 174098-( )

AGENCY: Federal Aviation Administration (FAA), DOT.

ACTION: Final rule.

SUMMARY: We are adopting a new airworthiness directive (AD) for the products listed above, except for those that are currently affected by similar action through any of five ADs applicable to Boeing products. This AD requires an inspection/records check to determine the manufacturer and part number of the oxygen mask assemblies installed, an inspection to determine the manufacturing date and modification status if certain oxygen mask assemblies are installed, and corrective action for certain oxygen mask assemblies. This AD was prompted by a report that several oxygen mask assemblies with broken in-line flow indicators were found following a mask deployment. We are issuing this AD to prevent the in-line flow indicators of the oxygen mask assembly from fracturing and separating, which could inhibit oxygen flow to the masks. This condition could consequently result in occupants developing hypoxia following a depressurization event.

DATES: This AD is effective August 19, 2011.

The Director of the Federal Register approved the incorporation by reference of a certain publication listed in the AD as of August 19, 2011.

ADDRESSES: For service information identified in this AD, contact B/E Aerospace, 10800 Pflumm Road, Lenexa, Kansas 66215; telephone: (913) 338-9800; fax: (913) 469-8419; Internet: http://www.beaerospace.com. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: David Fairback, Aerospace Engineer, Wichita Aircraft Certification Office, FAA, 1801 Airport Road, Room 100, Wichita, Kansas 67209; telephone: (316) 946-4154; fax: (316) 946-4107; e-mail: david.fairback@faa.gov.

SUPPLEMENTARY INFORMATION:

Discussion

We issued a notice of proposed rulemaking (NPRM) to amend 14 CFR part 39 to include an airworthiness directive (AD) that would apply to the specified products. That NPRM published in the Federal Register on February 23, 2011 (76 FR 9984). That NPRM proposed to require an inspection/records check to determine the manufacturer and part number of the oxygen mask assemblies installed, an inspection to determine the manufacturing date and modification status if certain oxygen mask assemblies are installed, and corrective action for certain oxygen mask assemblies.

Comments

We gave the public the opportunity to participate in developing this AD. The following presents the comments received on the proposal and the FAA's response to each comment. B/E Aerospace supports the NPRM.

Request To Address Past Production Cut Over Point Airplanes

The Boeing Company (Boeing) stated that a statement should be included in the final rule AD action to address installation of the affected oxygen mask assemblies on Boeing airplanes that are not included in existing Boeing service bulletins because these airplanes are past production cut over point.

Boeing stated that, due to long-time lag between production cut over change and the release of the AD, there is a high likelihood that on Boeing airplanes past production cut over point, but prior to release of this AD due to lack of awareness of the pending AD release, operators could have installed one of the affected oxygen mask assemblies during routine maintenance. The Applicability section of the proposed AD could mislead operators to not take corrective actions on Boeing airplanes even if they had unknowingly installed affected oxygen mask assemblies on airplanes past production cut over prior to release of the AD. This could also apply to installation of affected oxygen mask assemblies on Boeing airplanes through supplemental type certificate (STC) or through field approval.

We agree with the commenter. However, the unsafe condition on Boeing airplanes will be addressed separately from this AD. If additional action is necessary to address Boeing's concerns, additional rulemaking may be taken specific to Boeing airplanes.

We have not changed the final rule AD action based on this comment.

Request for Applicability Clarification

Boeing stated that there is confusion between the statements in the Differences Between the Proposed AD and the Service Information section and the Applicability section in the proposed AD. The statements are contradictory and could mislead operators. In the proposed AD, it is stated in the Differences Between the Proposed AD and the Service Information section that oxygen mask assemblies affected by AD 2007-26-06, AD 2008-08-08, AD 2008-12-05, AD 2008-13-21, or AD 2010-14-06 are not affected by this proposed AD. In the Applicability section of the proposed AD, it is stated that the AD applies to B/E Aerospace, Continuous Flow Passenger Oxygen Mask Assembly; Part Numbers 174006-( ), 174080-( ), 174085-( ), 174095-( ), 174097-( ), and 174098-( ) as listed in B/E Aerospace Service Bulletin 174080-35-04, Rev 000, dated September 6, 2010, that are installed on any aircraft except for those Boeing airplanes specified in the ADs referenced in paragraphs (b)(1), (b)(2), (b)(3), (b)(4), and (b)(5) of this AD.

The Differences Between the Proposed AD and the Service Information section excludes mask assemblies by part number from the proposed AD if they are included in the previously referenced ADs. The Applicability section provides relief for Boeing airplanes covered by the previously referenced ADs. This information is contradictory and needs to be clarified in the final rule AD action.

We agree with the commenter. The statement in the Differences Between the Proposed AD and the Service Information section is incorrect. The template used for preparing final rule AD actions does not include the Differences Between the Proposed AD and the Service Information section, which is part of the Discussion section and not part of the actual AD. The Applicability section in the proposed AD is correct. We regret any confusion this may have caused.

We have not changed the final rule AD action based on this comment.

Request To Exclude Certain Airplanes From the Applicability Section

Airbus, jetBlue Airways, and All Nippon Airways stated Airbus airplanes in compliance with B/E Aerospace Service Bulletin 174080-35-02, Rev. 1, as specified in European Aviation Safety Agency (EASA) AD 2010-0165, dated August 5, 2010, should be excluded from the applicability of the proposed AD.

The commenters state that this change would harmonize the EASA AD with the FAA AD and avoid duplicate work.

We partially agree with the commenters. We do not agree to exclude Airbus airplanes affected by the EASA AD because the EASA AD does not include all of the oxygen mask assembly part numbers that contain the potentially defective in-line flow indicators. We do agree that duplicate work should be avoided and that credit for compliance with the EASA AD could be given, but only if it can be positively determined that no oxygen mask assembly part number listed in B/E Aerospace Service Bulletin 174080-35-04, Rev 000, dated September 6, 2010, or listed in EASA AD 2010-0165, dated August 5, 2010, is installed by STC or alternation.

We have revised the final rule AD action to include a statement in paragraph (g)(1) giving conditional credit for compliance with the EASA AD 2010-0165, dated August 5, 2010, or EASA AD 2010-0165R1, correction dated January 31, 2011.

Request To Allow an Additional Method of Compliance

Airbus stated that compliance with the final rule AD action should include inspection of the oxygen mask assembly container for a manufacture date of oxygen mask assemblies that were fitted at time of production delivery providing that no replacement of masks occurred up to the effective date of the final rule AD action.

Airbus stated that they received a statement from B/E Aerospace stating that “container assemblies that were manufactured after March 1, 2006, do not contain masks that were manufactured before March 1, 2006.” Airbus confirms that no modification is performed on the container assemblies and/or subassemblies before aircraft delivery.

We partially agree with the commenter. We agree that inspection of the oxygen mask assembly container for manufacture date is adequate only if it can be verified that the original oxygen masks in the container assembly are installed. We disagree that relying on the container assembly manufacture date alone addresses the safety concern because the masks in the container assembly may have been changed after it was manufactured.

We have revised the final rule AD action based on this comment to include inspection of the container assembly date only if it can be positively determined that the passenger oxygen masks within the container assembly have not been modified since it was manufactured.

Request To Change Replacement Compliance Time

Airbus stated that replacement of the in-line flow indicator before further flight after the inspection would only be necessary if, during the physical check of the oxygen mask assembly, it is found broken. Based on difficulties in getting spare parts from the supplier in sufficient time, the compliance time for modifying the affected oxygen masks should be changed to 36 months after the effective date of the AD or within 6,500 hours time-in-service (TIS) after the effective date of the AD, whichever occurs first.

We agree with the commenter. Changing the compliance time for modifying the affected oxygen masks will still address the safety concern of the unsafe condition identified in the proposed AD.

We have revised the final rule AD action to change the replacement/modification compliance time in paragraph (h).

Request To Include Other Oxygen Mask Assemblies in the Applicability Section

BOS Aviation Ltd. stated that the Applicability section should also include additional in-line flow indicator part numbers because faulty in-line flow indictors are fitted to more masks than identified in B/E Aerospace Service Bulletin 174080-35-04, Rev 000, dated September 6, 2010. BOS Aviation Ltd. stated that some technical documentation suggests that a very popular series of AVOX oxygen masks contain the same in-line flow indicator, although it masquerades under AVOX part number 804273-01. They also stated that examination of the failure mode of the suspect in-line flow indicator showed that the failure was where the two halves are glued together, not as was suggested at the “weak” sharp molded joint stated in the B/E Aerospace service bulletin and other communication.

We do not agree with the commenter. AVOX stopped using the B/E Aerospace in-line flow indicator in their passenger oxygen masks several years before 2002 when the AVOX part number 804273-01 was introduced. The B/E Aerospace part number 118023-02 in-line flow indicator is not glued; it is welded together. The photos provided by BOS Aviation Ltd. show that the failure did not occur at the weld since the opaque material is still bonded to the transparent material.

The FAA issued Special Alert Information Bulletin (SAIB) NM-11-25 to address an issue with AVOX in-line flow indicators that is different from the B/E Aerospace in-line flow indicators.

We have not changed the final rule AD action based on this comment.

Request To Include Other In-Line Flow Indicators in the Applicability Section

BOS Aviation Ltd. stated that the manufacturer date window be removed from the final rule AD action because several suspect part number in-line flow indicators are in service that were manufactured before the January 1, 2002 date specified in B/E Aerospace Service Bulletin 174080-35-04, Rev 000, dated September 6, 2010. BOS Aviation Ltd. stated that the date is not carried on the in-flow indicator, thereby making it difficult to confirm the age of the in-line flow indicator regardless of the age of the oxygen mask. The same ambiguity applies if there has been any repair to the unit.

We do not agree with the commenter. Based on the failure data we have, we determined that no AD action is necessary for other in-line flow indicators or for in-line flow indicators manufactured before 2002.

We have not changed the final rule AD action based on this comment.

Request To Show Compliance Through Permanent Marking

BOS Aviation Ltd. requested that the personal safety unit (PSU) (as well as the actual oxygen mask assembly) be marked to show compliance with the AD; thereby negating the need to open the PSU and drop the oxygen mask assembly to confirm compliance in the future.

We partially agree with the commenter. We agree that the oxygen mask assembly needs to be marked to show it has been modified as specified in the service bulletin. However, we do not agree to require marking of the oxygen mask stowage container to show compliance with the AD when compliance can be confirmed by checking the maintenance records.

We have not changed the final rule AD action based on this comment.

Request To Add Additional Guidance

BOS Aviation Ltd. stated that the FAA should instruct owner/operators to use standard maintenance practices when doing the actions required in the final rule AD action. This should be done for a myriad of good reasons that relate primarily to safety, none of which goes away simply because the maintenance is carried out as a result of an AD or a service bulletin.

We partially agree with the commenter. We agree that standard maintenance practices should always be used. Appropriate personnel and procedures must be used for the inspection and modification required by this AD to ensure safety and not create additional hazards. We disagree that language should be added to the AD to emphasize safety when doing actions required in an AD.

We have not changed the final rule AD action based on this comment.

Request To Update Cost of Compliance Section

BOS Aviation Ltd. stated that B/E Aerospace has offered to supply replacement in-line flow indicators to operators free of charge. The FAA assessed the cost of compliance based on the manpower requirement stated in B/E Aerospace Service Bulletin 174080-35-04, Rev 000, dated September 6, 2011, and is grossly underestimated. In many applications, the suspect oxygen masks are contained in a PSU that is live and installed in operational aircraft. The proposed AD requires opening and disassembling the oxygen mask assembly in order to carry out the inspection, in addition to modifying any defective oxygen mask. To do this task safely and following various manufacturers' maintenance instructions, the oxygen mask assembly should be removed from the aircraft, taken to an oxygen clean environment, and made safe in preparation for maintenance.

Once open, depending on type, the oxygen mask assemblies are tightly wrapped with their tube specifically coiled and packaged with the in-line flow indicator not immediately visible, which then requires “unpacking” the box that may contain up to four masks. The box then requires proper “re-packing” before reinstallation and test in the aircraft.

BOS Aviation Ltd. stated that they have conducted tests that would suggest the accomplishment time (as presented in AD 2007-26-06 for example) is probably adequate for an aircraft of a half or a third the capacity of the 747. Moreover, where aircraft PSUs use chemical oxygen generators, the issue to ensure safety with respect to the oxygen generating canister becomes paramount and increases the workhours required. Our estimate, at the very best, for accomplishing the AD on an airplane's set of PSUs on a 150 seat narrow body airplane, will require a minimum of 3 days down time, not including transport of the PSUs to a suitable workshop for accomplishment of the AD.

We do not agree with the commenter. The cost estimate of $19,400,00 for the estimated number of affected oxygen mask assemblies is based on the following:

• The cost estimate for the AD assumes that all of the 400,000 part number in-line flow indicators manufactured on or after January 1, 2002, and before March 1, 2006, are replaced for compliance with this AD. In reality, most of these in-line flow indicators are installed in Boeing and Airbus airplanes and will be replaced in compliance with the previously referenced ADs. The exact number that will be replaced in accordance with this AD is unknown, but it will be less than the estimated 400,000.

• The cost estimate assumes 30 minutes are required to do the actions required in this AD for each affected oxygen mask assembly. This estimate is much higher than the 3-minute time proposed in B/E Aerospace Service Bulletin 174080-35-04, Rev 000, dated September 6, 2010.

• For the oxygen mask assemblies to be maintained in an airworthy condition, a recurrent inspection for each oxygen mask is necessary. The 6,500-hour TIS/36-month compliance time of this AD will allow many operators to do the actions required in this AD at the same time as the recurrent inspection.

We have not changed the final rule AD action based on this comment.

Conclusion

We reviewed the relevant data, considered the comments received, and determined that air safety and the public interest require adopting the AD with the changes described previously and minor editorial changes. We have determined that these minor changes:

• Αre consistent with the intent that was proposed in the NPRM for correcting the unsafe condition; and

• Do not add any additional burden upon the public than was already proposed in the NPRM.

We also determined that these changes will not increase the economic burden on any operator or increase the scope of the AD.

Costs of Compliance

We estimate that this AD affects 400,000 oxygen mask assemblies.

We estimate the following costs to comply with this AD:

Estimated Costs
Action | Labor cost | Parts cost | Cost per product | Cost on U.S. operators
Replace the in-line flow indicator per mask | 0.5 work-hour × $85 per hour = $42.50 | $6.00 | $48.50 | $19,400,000

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-14-08 B/E Aerospace: Amendment 39-16743; Docket No. FAA-2011-0139; Directorate Identifier 2010-CE-057-AD.

Effective Date

(a) This AD is effective August 19, 2011.

Affected ADs

(b) None. This AD does not revise or supersede any existing ADs. The following ADs address the unsafe condition described in paragraph (e) of this AD for certain installations on certain Boeing airplanes:

(1) AD 2007-26-06, Amendment 39-15308 (72 FR 71210, December 17, 2007), for certain Boeing Model 747-200B, 747-300, and 747-400 series airplanes identified in Boeing Service Bulletin 747-35-2119, dated November 30, 2006;

(2) AD 2008-08-08, Amendment 39-15460 (73 FR 19982, April 14, 2008), for certain Boeing Model 757-200, 757-200CB, 757-200PF, and 757-300 series airplanes identified in Boeing Special Attention Service Bulletin 757-35-0028, dated April 9, 2007;

(3) AD 2008-12-05, Amendment 39-15548 (73 FR 32996, June 11, 2008), for certain Boeing Model 777-200, 777-200LR, 777-300, and 777-300ER series airplanes identified in Boeing Special Attention Service Bulletin 777-35-0019, dated March 9, 2006;

(4) AD 2008-13-21, Amendment 39-15584 (73 FR 37781, July 2, 2008), for certain Boeing Model 767-200, 767-300, and 767-400ER series airplanes identified in Boeing Special Attention Service Bulletin 767-35-0054, dated July 6, 2006; and

(5) AD 2010-14-06, Amendment 39-16351 (75 FR 38014, July 1, 2010), for certain The Boeing Company Model 737-200, 737-300, 737-400, and 737-500 series airplanes identified in Boeing Special Attention Service Bulletin 737-35-1099, Revision 1, dated April 23, 2009.

Applicability

(c) This AD applies to B/E Aerospace, Continuous Flow Passenger Oxygen Mask Assembly; Part Numbers 174006-( ), 174080-( ), 174085-( ), 174095-( ), 174097-( ), and 174098-( ) as listed in B/E Aerospace Service Bulletin 174080-35-04, Rev 000, dated September 6, 2010, that are installed on any aircraft except for those Boeing airplanes specified in the ADs referenced in paragraphs (b)(1), (b)(2), (b)(3), (b)(4), and (b)(5) of this AD.

Note 1: The service bulletin lists the part numbers with a suffix of “XX.” The TSO Index lists the part numbers with the suffix of “( ).” For the purposes of this AD, we have used “( ).”

Subject

(d) Joint Aircraft System Component (JASC)/Air Transport Association (ATA) of America Code 35: Oxygen.

Unsafe Condition

(e) This AD was prompted by a report that several oxygen mask assemblies with broken in-line flow indicators were found following a mask deployment. We are issuing this AD to prevent the in-line flow indicators of the oxygen mask assembly from fracturing and separating, which could inhibit oxygen flow to the masks. This condition could consequently result in occupants developing hypoxia following a depressurization event.

Compliance

(f) Comply with this AD within the compliance times specified, unless already done.

Records Check/Inspection

(g) Within 36 months after August 19, 2011 (the effective date of this AD) or within 6,500 hours time-in-service (TIS) after August 19, 2011 (the effective date of this AD), whichever occurs first, do the following:

(1) Do a records check to determine if any oxygen mask assembly part number listed in B/E Aerospace Service Bulletin 174080-35-04, Rev 000, dated September 6, 2010, is installed in the aircraft.

(i) If you cannot positively determine the manufacturer and part number of any oxygen mask assembly installed, do a general visual inspection to determine if any oxygen mask assembly part number listed in B/E Aerospace Service Bulletin 174080-35-04, Rev. 000, dated September 6, 2010, is installed in the aircraft.

(ii) If you can positively determine that no oxygen mask assembly part number listed in B/E Aerospace Service Bulletin 174080-35-04, Rev 000, dated September 6, 2010, is installed, no further action is required by this AD.

(iii) If you can positively determine that any Airbus airplane affected by this AD is in compliance with European Aviation Safety Agency (EASA) AD 2010-0165, dated August 5, 2010, or EASA AD 2010-0165R1, correction dated January 31, 2011, and that no oxygen mask assembly part number listed in B/E Aerospace Service Bulletin 174080-35-04, Rev 000, dated September 6, 2010 is installed by STC or alteration, no further action is required by this AD.

(iv) If you can positively determine through inspection of the oxygen mask container assembly that the date of manufacture is after March 1, 2006, and you can verify that the original oxygen masks in the container assembly are installed, no further action is required by this AD.

(2) If, as a result of any of the records checks/inspections required in paragraph (g)(1) of this AD, you determine that an oxygen mask assembly part number listed in B/E Aerospace Service Bulletin 174080-35-04, Rev 000, dated September 6, 2010, is installed, inspect the oxygen mask assembly to determine if the in-line flow indicator must be replaced following paragraph II.A. of B/E Aerospace Service Bulletin 174080-35-04, Rev 000, dated September 6, 2010. If you can positively determine that the in-line flow indicator does not require replacement, no further action is required by this AD.

Modification/Replacement

(h) After the inspection in paragraph (g)(2) of this AD and it was determined the in-line flow indicator must be replaced, within 36 months after August 19, 2011 (the effective date of this AD) or within 6,500 hours TIS after August 19, 2011 (the effective date of this AD), whichever occurs first, modify the oxygen mask assembly by replacing the in-line flow indicator following B/E Aerospace Service Bulletin 174080-35-04, Rev 000, dated September 6, 2010. As an alternative to modifying the oxygen mask assembly, you may replace the oxygen mask assembly with an airworthy oxygen mask assembly FAA-approved for installation on the aircraft.

Parts Installation

(i) As of August 19, 2011 (the effective date of this AD), do not install a B/E Aerospace oxygen mask having a part number listed in B/E Aerospace Service Bulletin 174080-35-04, Rev 000, dated September 6, 2010, with a manufacturing date on or after January 1, 2002, and before March 1, 2006, on any aircraft, unless it has been modified following the requirements of paragraph (h) of this AD.

Alternative Methods of Compliance (AMOCs)

(j)(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your Principal Maintenance Inspector or Principal Avionics Inspector, as appropriate, or lacking a principal inspector, your local Flight Standards District Office.

Related Information

(k) For more information about this AD, contact David Fairback, Aerospace Engineer, Wichita ACO, FAA, 1801 Airport Road, Room 100, Wichita, Kansas 67209; telephone: (316) 946-4154; fax: (316) 946-4107; e-mail: david.fairback@faa.gov.

(l) For service information identified in this AD, contact B/E Aerospace, 10800 Pflumm Road, Lenexa, Kansas 66215; telephone: (913) 338-9800; fax: (913) 469-8419; Internet: http://www.beaerospace.com. You may review copies of the referenced service information at the FAA, Small Airplane Directorate, 901 Locust, Kansas City, Missouri 64106. For information on the availability of this material at the FAA, call (816) 329-4148.

Material Incorporated by Reference

(m) You must use B/E Aerospace Service Bulletin 174080-35-04, Rev 000, dated September 6, 2010, to do the actions required by this AD, unless the AD specifies otherwise.

(1) The Director of the Federal Register approved the incorporation by reference of the service information under 5 U.S.C. 552(a) and 1 CFR part 51.

(2) For service information identified in this AD, contact B/E Aerospace, 10800 Pflumm Road, Lenexa, Kansas 66215; telephone: (913) 338-9800; fax: (913) 469-8419; Internet: http://www.beaerospace.com.

(3) You may review copies of the referenced service information at the FAA, Small Airplane Directorate, 901 Locust, Kansas City, Missouri 64106. For information on the availability of this material at the FAA, call 816-329-4148.

(4) You may also review copies of the service information that is incorporated by reference at the National Archives and Records Administration (NARA). For information on the availability of this material at an NARA facility, call 202-741-6030, or go to http://www.archives.gov/federal_register/code_of_federal_regulations/ibr_locations.html.

Issued in Kansas City, Missouri, on July 1, 2011.
Earl Lawrence,
Manager, Small Airplane Directorate, Aircraft Certification Service.

[FR Doc. 2011-17205 Filed 7-14-11; 8:45 am]

BILLING CODE 4910-13-P